FEDERAL DEPOSIT INSURANCE CORPORATION

Notice of Agency Meeting

Pursuant to the provisions of the “Government in the Sunshine Act” (5 U.S.C. 552b), notice is hereby given that at 10:03 a.m. on Thursday, November 6, 2008, the Board of Directors of the Federal Deposit Insurance Corporation met in open session to consider the following matter:

Memorandum and resolution re: Extension of Comment Period for Proposed Rules on the Risk Based Assessment System.

In calling the meeting, the Board determined, on motion of Director Thomas J. Curry (Appointive), seconded by Vice Chairman Martin J. Gruenberg, concurred in by Director John M. Reich (Office of Thrift Supervision), Julie L. Williams, acting in the place and stead of Director John C. Dugan (Comptroller of the Currency), and Chairman Sheila C. Bair, that Corporation business required its consideration of the matter on less than seven days' notice to the public; and that no earlier notice of the meeting was practicable.

The meeting was held in the Board Room of the FDIC Building located at 550—17th Street, NW., Washington, DC.

Dated: November 6, 2008.
Federal Deposit Insurance Corporation.
Robert E. Feldman,
Executive Secretary.

[FR Doc. E8-26829 Filed 11-10-08; 8:45 am]

BILLING CODE 6714-01-P